DEPARTMENT OF TRANSPORTATION

Federal Aviation Administration

State Court Decision Affecting Recordation of Artisan Liens

Correction

In notice document 05-17835 appearing on page 53707 in the issue of Friday, September 9, 2005, make the following correction:

In the first column, under SUMMARY, in the fourth line “Creation Aviation, Inc.” should read “Creston Aviation, Inc.”.

[FR Doc. C5-17835 Filed 10-7-05; 8:45 am]

BILLING CODE 1505-01-D

DEPARTMENT OF TRANSPORTATION

Pipeline and Hazardous Materials Safety Administration

49 CFR Part 172

[Docket No. PHMSA-2005-22071 (HM-189Y)]

RIN 2137-AE08

Hazardous Materials Regulations: Minor Editorial Corrections and Clarifications

Correction

In rule document 05-18983 beginning on page 56084 in the issue of Friday, September 23, 2005, make the following correction:

§172.101 [Corrected]

On page 56096, in the table, in §172.101, under the column titled “Symbols”, in the last entry, the “+” symbol should be removed.

[FR Doc. C5-18983 Filed 10-7-05; 8:45 am]

BILLING CODE 1505-01-D